DEPARTMENT OF TRANSPORTATION

Federal Highway Administration

Environmental Impact Statement: Seattle, WA

AGENCY: Federal Highway Administration (FHWA), DOT.

ACTION: Rescission of Notice of Intent, FR document 01-1508.

SUMMARY: This notice rescinds the previous Notice of Intent issued on January 9, 2001, to prepare an environmental impacts statement (EIS) for the proposed NE Novelty Hill transportation project in King County, Washington.

FOR FURTHER INFORMATION CONTACT: Pete Jilek, Urban Area Engineer, Federal Highway Administration, 711 South Capitol Way, Suite 501, Olympia WA 98501, Telephone (360) 753-9550 and Ed Conyers, Washington State Department of Transportation, Local Programs Engineer for Northwest Region, P.O. Box 330310, 15700 Dayton Avenue, Seattle, WA 98133, Telephone (206) 440-4734.

SUPPLEMENTARY INFORMATION: The FHWA, in cooperation with the Washington State Department of Transportation (WSDOT) and the King County Department of Transportation (KCDOT), issued a Notice of Intent on January 18, 2001 to prepare an EIS to evaluate the potential environmental impacts associated with the proposed NE Novelty Hill transportation improvement project to improve immediate and long-range transportation mobility of people and goods in the NE Novelty Hill Road corridor area. This corridor area is located west of 243rd Avenue NE to Avondale Road NE., south of NE 133rd Street to NE Union Hill Road in King County, Washington.

The initial proposal included the consideration of four alternatives (three build alternatives and a no action alternative) for evaluation in the proposed EIS. Since then, refinement of the project elements and review and analysis in the completion of thirteen associated discipline reports helped to more specifically identify potential impacts, resulting in the elimination of two of the build alternatives with significant impacts. As such, the FHWA, WSDOT, and KCDOT have jointly decided that the project will likely not result in significant impacts to the environment and that an Environmental Assessment (EA) is the most appropriate environmental document for compliance with the National Environmental Policy Act (NEPA). The EA will be circulated, as appropriate, once it is completed.

(Catalog of Federal Domestic Assistance Program Number 20.205, Highway Research, Planning and Construction. The regulations implementing Executive Order 12372 regarding intergovernmental consultation of Federal programs and activities apply to this program.)

Authority: 23 U.S.C. 315; 40 CFR 1.48.

Issued on: March 20, 2008.
Pete Jilek,
Urban Area Engineer, Federal Highway Administration, Olympia, Washington.

[FR Doc. E8-6852 Filed 4-1-08; 8:45 am]

BILLING CODE 4910-22-P